POSTAL REGULATORY COMMISSION

39 CFR Part 3050

[Docket No. RM2022-1; Order No. 9316]

Periodic Reporting

AGENCY: Postal Regulatory Commission.

ACTION: Order requiring Postal Service progress update and setting comment deadline.

SUMMARY: The Commission is considering possible improvements to the quality, accuracy, or completeness of data provided by the Postal Service in its annual compliance reports. This document orders the Postal Service to submit a progress update, informs the public of the filing, invites public comment, and takes other administrative steps.

DATES: Comments are due: December 8, 2025.

ADDRESSES: Submit comments electronically via the Commission's Filing Online system at https://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Postal Service Progress Update on Research Topics

III. Ordering Paragraphs

I. Introduction

On October 8, 2021, pursuant to 39 U.S.C. 3652(e), the Commission established this docket to consider possible improvements to the quality, accuracy, or completeness of data provided by the Postal Service in its Annual Compliance Reports.¹ On May 8, 2023, the Commission ordered the Postal Service to provide an update of developments and progress since the Postal Service submitted reply comments.² On June 16, 2023, the Postal Service filed a response to Order No. 6501, in which it described developments and progress it made on each of the research topics identified in this docket.³ Since that filing, some of the research topics have been investigated and updated through proposed changes to analytical principles.

¹ Notice and Order of Proposed Rulemaking on Periodic Reporting, October 8, 2021, at 1 (Order No. 6004); 39 U.S.C. 3652(e).

² Order Requiring Postal Service Progress Update, May 8, 2023 (Order No. 6501).

³ Response of the United States Postal Service to Request for Progress Report in Order No. 6501, June 16, 2023 (Postal Service Progress Report).

II. Postal Service Progress Update on Research Topics

The Commission orders the Postal Service to file no later than December 1, 2025 an update of developments and progress since the Postal Service Progress Report was submitted on June 16, 2023. In its update, the Postal Service shall describe progress it has made on the research topics of Delivery Vehicle Costs, Vehicle Service Driver Costs, and Window Service Costs (including information on whether any such research topics can be recategorized withi the near-, medium-, and long-term structure that was previously established), identify and describe any new research topics it proposes to include in this docket, describe the tentative schedule and action plan for each research topic, and include any other information it proposes for the Commission's consideration.

Interested persons may comment on the Postal Service's update and propose areas of research that they think are needed. Comments are due no later than December 8, 2025.

III. Ordering Paragraphs

It is ordered:

1. The Postal Service shall submit a progress update, as described in the body of this Order, by December 1, 2025.

2. Comments by interested persons in this proceeding are due no later than December 8, 2025.

3. Pursuant to 39 U.S.C. 505, the Commission appoints Katalin Clendenin to continue to serve as an officer of the Commission (Public Representative) to represent the interests of the general public in this docket.

4. The Secretary shall arrange for the publication of this order, or abstract thereof, in the Federal Register.

By the Commission.
Erica A. Barker,
Secretary.

[FR Doc. 2025-19749 Filed 10-31-25; 8:45 am]

BILLING CODE 7710-FW-P